DEPARTMENT OF COMMERCE

Foreign-Trade Zones Board

[S-43-2014]

Scope Determination Regarding the Effect on Foreign-Trade Zone Board Orders Resulting From Modifications to the Harmonized Tariff Schedule of the United States

Pursuant to Section 400.14(d) of the FTZ Board regulations (15 CFR Part 400), it has been determined that the scope of FTZ Board Orders has not been affected by the 2012 modification of the Harmonized Tariff Schedule of the United States (HTSUS).

Some Foreign-Trade Zone (FTZ) Board Orders, particularly orders relating to oil refinery subzones, contain references to HTSUS numbers. Such references were intended to describe types of products that were either included in or excluded from the scope of FTZ Board actions. The scope of FTZ Board Orders will continue to apply to those products as described in the orders and related appendices, even though the HTSUS number associated with the product may change. The scope of FTZ Board Orders should be interpreted as applying to the new HTSUS numbers. Similarly, the addition of new classifications to the HTSUS does not imply authority for any new production activity (including new categories of foreign status components or finished products) requiring advance approval by the FTZ Board.

The following table provides a list of 2012 HTSUS changes relating to FTZ Board Orders for oil refinery subzones:

Past HTS No. | New HTS No.
2710.19.05 | 2710.19.06
2710.19.10 | 2710.19.11
2710.19.23 | 2710.19.26
2710.11.25 | 2710.12.25
2710.11.45 | 2710.12.45

FOR FURTHER INFORMATION CONTACT: Elizabeth Whiteman (Elizabeth.Whiteman@trade.gov, (202) 482-0473) or Diane Finver (Diane.Finver@trade.gov, (202) 482-1367), Foreign-Trade-Zones Board, U.S. Department of Commerce, Room 21013, 1401 Constitution Ave. NW., Washington, DC 20230.

Dated: April 15, 2014.
Andrew McGilvray,
Executive Secretary.

[FR Doc. 2014-08937 Filed 4-17-14; 8:45 am]

BILLING CODE 3510-DS-P